FEDERAL COMMUNICATIONS COMMISSION

47 CFR Part 1

[GC Docket No. 00-219; FCC 00-392]

Exempt Presentations

AGENCY: Federal Communications Commission.

ACTION: Notice of proposed rulemaking.

SUMMARY: The Commission proposes to amend its regulations specifying presentations that are treated as exempt under the ex parte rules. Under the current rule, presentations to or from the Department of Justice and the Federal Trade Commission regarding telecommunications competition matters are treated as exempt. The item would expand the scope of the exemption to include the Competition Directorate of the European Commission and other international and foreign bodies with analogous functions. The item would clarify that the term “telecommunications competition matters” in the existing rule was intended to be construed broadly and was not limited to common carriers. The intended effect of this proposal is to enhance the Commission's ability to consult with relevant agencies concerning mergers and other significant competition matters.

DATES: Comments must be filed on or before January 25, 2001; reply comments must be filed on or before February 9, 2001.

ADDRESSES: Federal Communications Commission, 445 12th Street, SW, Room 8-C723, Washington, DC 20554.

FOR FURTHER INFORMATION CONTACT: David S. Senzel, Office of General Counsel (202) 418-1720.

SUPPLEMENTARY INFORMATION: This is a summary of the Commission's Notice of Proposed Rulemaking (NPRM), GC Docket No. 00-219, adopted on October 30, 2000, and released December 15, 2000. The full text of the NPRM is available for inspection and copying during normal business hours in the FCC Reference Information Center, Portals II, 445 12th Street, SW, Room CY-A257, Washington, DC 20554. Copies of filings may be purchased from the Commission's copy contractor, International Transcription Service (ITS), 1231 20th Street, NW, Washington, D.C. 20036, telephone (202) 857-3800, facsimile (202) 857-3805. Filings may also be viewed on the Commission's Internet web site using the Electronic Document Filing System (ECFS) at http://haifoss.fcc.gov/cgi-bin/ws.exe/prod/ecfs/comsrch_v2.hts.

Summary of Notice of Proposed Rule Making

1. By this notice of proposed rulemaking, the Commission proposes to modify 47 CFR 1.1204(a)(6), one of the rules governing the permissibility of ex parte presentations in Commission proceedings. The current rule provides that the following type of presentation is exempt:

(6) The presentation is to or from the United States Department of Justice or Federal Trade Commission and involves a telecommunications competition matter in a proceeding which has not been designated for hearing and in which the relevant agency is not a party or commenter (in an informal rulemaking or Joint board proceeding) Provided , That, any new factual information obtained through such a presentation that is relied on by the Commission in its decision-making process will be disclosed by the Commission no later than at the time of the release of the Commission's decision; The Commission proposes to broaden the scope of this exemption to include international and foreign governmental bodies that exercise similar jurisdiction over relevant matters.

2. The rule was intended to “promote the public interest through the exchange of information between the Commission and the other principal agencies responsible for promoting or ensuring competition in the telecommunications industry.” Amendment of the Commission's Ex Parte Rules, 9 FCC Rcd 6108 ¶ 2 (1994). See also Amendment of 47 CFR 1.1200 et seq., 12 FCC Rcd 7348, 7368 ¶ 61 (1997), recon. denied, 14 FCC Rcd 18831 (1999), modified, DA 99-2788 (Dec. 17, 1999). The Commission continues to believe that the public interest will be served by permitting free consultation between the agencies with principal jurisdiction over telecommunications competition matters. Indeed, the need for effective, expedited, and consistent governmental response to issues of competition is especially acute in the present environment of major structural reorganizations within the telecommunications industry, accelerated technological change, and increased globalization.

3. The current § 1.1204(a)(6), however, fails to take into account an important dimension in the oversight of telecommunications competition, namely the increased globalization of telecommunications competition issues. The entities and services involved in, for example, mergers may well be international, rather than national in character, and the oversight of such cases potentially involves not only the Commission, the DOJ, and the FTC, but also their foreign and international counterparts. This situation has prompted antitrust and competition policy officials of the United States to develop close relationships with their foreign and international counterparts with respect to notifications, consultations, and coordination. In this regard, formal bilateral agreements have been reached between the United States and several countries, and informal relationships exist with other countries. Because the public interest requires the effective, expedited, and consistent exercise of authority on the international as well as national scale, presentations by the appropriate foreign and international agencies should also be exempt under the Commission's ex parte rules.

4. As an additional matter, the Commission takes this opportunity to clarify that the term “telecommunications competition matter” in the current rule was intended to be broadly construed to include the full extent of the respective agencies' jurisdiction over communications competition matters. It was not intended to be limited to specific types of competition matters involving “telecommunications” as that term may be technically defined by the Act.

Initial Regulatory Flexibility Certification

5. Section 603 of the Regulatory Flexibility Act, as amended, requires a preliminary regulatory flexibility analysis in a notice and comment rulemaking proceeding unless we certify that “the rule will not, if promulgated, have a significant economic impact on a substantial number of small entities.” 5 U.S.C. 605(b). We believe that the rule we propose today will not have a significant economic impact on a substantial number of small entities.

6. As noted above, in proposing to revise the ex parte rules we are expanding the scope of presentations treated as exempt. The proposed rule does not impose any additional compliance burden on persons dealing with the Commission, including small entities. The new rule would not significantly affect the rights of persons participating in Commission proceedings. There is no reason to believe that operation of the new rule would impose significant costs on parties to Commission proceedings.

7. Accordingly, we certify, pursuant to Section 605(b) of the Regulatory Flexibility Act, as amended by the Contract with America Advancement Act of 1996 (CWAAA), Public Law 104-121, 110 Stat. 847 (1996), that the rules will not have a significant economic impact on a substantial number of small entities. 5 U.S.C. 605(b). The Commission shall send a copy of this Notice of Proposed rulemaking, including this certification, to the Chief Counsel for Advocacy of the SBA. 5 U.S.C. 605(b). A copy of this certification will also be published in the Federal Register.

List of Subjects in 47 CFR Part 1

Administrative practice and procedure, Radio, Telecommunications, Television.

Federal Communications Commission.
Magalie Roman Salas,
Secretary.

Rule Changes

Part 1 of Title 47 of the Code of Federal Regulations is proposed to be amended as follows:

PART 1—PRACTICE AND PROCEDURE

1. The authority citation for part 1 continues to read as follows:

Authority: 47 U.S.C. 151, 154, 303, and 309(j) unless otherwise noted.

2. Section 1.1204 is amended by revising paragraph (a)(6) to read as follows:

§ 1.1204 Exempt ex parte presentations and proceedings

(a)* * *

(6) The presentation is to or from The United States Department of Justice, The United States Federal Trade Commission, or a foreign or international agency, including but not limited to the Competition Directorate of the European Commission, with responsibility for the oversight of competition matters similar to the foregoing United States agencies, and the presentation involves a telecommunications competition matter. This exemption applies to proceedings which have not been designated for hearing and in which the relevant agency is not a party or commenter (in an informal rulemaking or Joint board proceeding). Any new factual information obtained through such a presentation that is relied on by the Commission in its decision-making process shall be disclosed by the Commission no later than at the time of the release of the Commission's decision;

* * * * *

[FR Doc. 00-32788 Filed 12-22-00; 8:45 am]

BILLING CODE 6712-01-P